DEPARTMENT OF ENERGY

Federal Energy Regulatory Commission

[Docket No. ER01-520-001]

Covert Generating Company, LLC; Notice of Filing

January 23, 2001.

Take notice that on January 17, 2001, Covert Generating Company, LLC (Covert), tendered for filing in the above-captioned proceeding, pursuant to section 205 of the Federal Power Act and part 35 of the Commission's regulations, a revised FERC Electric Tariff No. 1 which incorporates information that Covert included in its petition for authorization to sell capacity, energy, and certain Ancillary Services at market-based rates filed with the Commission on November 28, 2000 in the above-captioned proceeding.

Any person desiring to be heard or to protest such filing should file a motion to intervene or protest with the Federal Energy Regulatory Commission, 888 First Street, NE., Washington, DC 20426, in accordance with rules 211 and 214 of the Commission's Rules of Practice and Procedure (18 CFR 385.211 and 385.214). All such motions and protests should be filed on or before February 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-2483 Filed 1-26-01; 8:45 am]

BILLING CODE 6717-01-M